DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Meleik Goodwill, Ph.D., Wadsworth Center, N.Y.S. Department of Health: Based on the Wadsworth Center report and the oversight review conducted by the Office of Research Integrity (ORI), the U.S. Public Health Service (PHS) found that Meleik Goodwill, Ph.D., former postdoctoral fellow, Wadsworth Center, N.Y.S. Department of Health, engaged in research misconduct in research supported by National Institute of Environmental Health Sciences (NIEHS), National Institutes of Health (NIH), grant R21 ES013269-02.

Specifically, PHS found that the Respondent engaged in research misconduct by the fabrication of data for growth curves presented in Figure 1 in the 2007 Journal of Neuroimmunology article (Goodwill, M.K., Lawrence, D.A., & Seegal, R.F. “Polychlorinated biphenyls induce proinflammatory cytokine release and dopaminergic dysfunction: Protection in interleukin-6 knockout mice.” Journal of Neuroimmunology 183(1-2):125-132, 2007), and by the use of composite images of Western-blot bands from unrelated experiments done in 2005 that were falsely labeled as if from different experiments to construct Figure 4A in the 2007 Journal of Neuroimmunology article. Figure 4B of the article also was falsified by use of identical sets of number for different treatments. The 2007 Journal of Neuroimmunology article was retracted in J. Neuroimmunol. 197(1):197, 2008.

Dr. Goodwill has entered into a Voluntary Settlement Agreement in which she has voluntarily agreed, for a period of three (3) years, beginning on January 21, 2011:

(1) That any institution that submits an application for PHS support for a research project on which the Respondent's participation is proposed or that uses her in any capacity on PHS-supported research, or that submits a report of PHS-funded research in which she is involved, must concurrently submit a plan for supervision of her duties to ORI for approval; the supervisory plan must be designed to ensure the scientific integrity of her research contribution; Respondent agrees that she will not participate in any PHS-supported research until such a supervisory plan is submitted to ORI;

(2) That any institution employing her submits, in conjunction with each application for PHS funds, or report, manuscript, or abstract involving PHS-funded research in which she was involved, a certification to ORI that the data provided are based on actual experiments or are otherwise legitimately derived and that the data, procedures, and methodology are accurately reported in the application or report; and

(3) To exclude herself voluntarily from service in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2011-2975 Filed 2-9-11; 8:45 am]

BILLING CODE 4150-31-P